DEPARTMENT OF TRANSPORTATION

Federal Railroad Administration

[Docket Number FRA-2004-20000]

Notice of Petition for Amendment to Waiver of Compliance

AGENCY: Federal Railroad Administration (FRA), Department of Transportation (DOT).

ACTION: Notice.

SUMMARY: This document provides the public notice that Dallas Area Rapid Transit (DART) petitioned FRA to supplement an existing waiver from certain regulations to include locomotive horns.

DATES: FRA must receive comments on the petition by May 22, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: John Mardente, Railroad Safety Specialist, FRA Engineering & Technology Division, telephone: 202-493-1335, email: john.mardente@dot.gov.

SUPPLEMENTARY INFORMATION: Under part 211 of title 49 Code of Federal Regulations (CFR), this document provides the public notice that by letter dated April 4, 2025, DART petitioned FRA for an amendment to a waiver of compliance from certain provisions of the Federal railroad safety regulations contained at 49 CFR parts 222 (Use of Locomotive Horns at Public Highway-Rail Grade Crossings), and 229 (Railroad Locomotive Safety Standards). The relevant Docket Number is FRA-2004-20000.¹

¹ The existing relief in this docket pertains to § 229.125, Headlights and auxiliary lights, and § 234.105, Activation failure, which allows operation of DART's rail-fixed guideway public transit lines that share limited connections with the general railroad system, specifically with the Dallas Garland and Northeastern Railroad. DART petitioned for an extension of that relief on July 26, 2024. See https://www.regulations.gov/document/FRA-2004-20000-0023.

Specifically, DART seeks additional relief from § 222.21, When must a locomotive horn be used?, and § 229.129, Locomotive horn, as DART uses a gong and horn on its system, which, DART states, provide “an alternative measure of equivalent safety.” DART adds that its shared crossings are protected by gates, bells, and lights, among other crossing devices.

In support of its request, DART contends that the requested relief “will allow operational consistency, efficiency[,] and safety among the entire fleet of DART [light rail vehicles] because it will allow DART operators to use the same audible warning device at all crossings within the DART Light Rail System.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by May 22, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-06849 Filed 4-21-25; 8:45 am]

BILLING CODE 4910-06-P